DEPARTMENT OF THE TREASURY

Internal Revenue Service

26 CFR Part 301

[TD 9007]

RIN 1545-AW87

Compromise of Tax Liabilities; Corrections

AGENCY: Internal Revenue Service (IRS), Treasury.

ACTION: Correction to final regulations.

SUMMARY: This document contains corrections to final regulations that were published in the Federal Register on Tuesday, July 23, 2002 (67 FR 48025) relating to the compromise of internal revenue taxes.

DATES: This correction is effective July 23, 2002.

FOR FURTHER INFORMATION CONTACT: Frederick W. Schindler (202) 622-3620 (not a toll-free numbers).

SUPPLEMENTARY INFORMATION:

Background

The final regulations that are the subject of these corrections are under section 7122 of the Internal Revenue Code.

Need for Correction

As published, the final regulations contain an error that may prove to be misleading and is in need of clarification.

Correction of Publication

Accordingly, the publication of the final regulations (TD 9007), which is the subject of FR. Doc. 02-18454, is corrected as follows:

§ 301.7122-1 [Amended]

1. On page 48030, column 3, 301.7122-1(d)(2), line 7, the language “involving such liability to the Attorney General” is corrected to read “involving such liability to the Department of Justice”.

Cynthia E. Grigsby,
Chief, Regulations Unit Associate Chief Counsel (Income Tax and Accounting).

[FR Doc. 02-21204 Filed 8-19-02; 8:45 am]

BILLING CODE 4830-01-P